FARM CREDIT ADMINISTRATION

12 CFR Parts 600, 602, 603, 604, and 606

RIN 3052-AB82

Organization and Functions; Releasing Information; Privacy Act Regulations; Farm Credit Administration Board Meetings; and Enforcement of Nondiscrimination on the Basis of Handicap in Programs or Activities Conducted by the Farm Credit Administration

AGENCY: Farm Credit Administration.

ACTION: Final rule.

SUMMARY: The Farm Credit Administration (FCA or Agency) issues a final rule amending its regulations on the FCA's organization and functions to reflect the Agency's organization, update the statutory citation for the Farm Credit Act, and identify those FCA employees responsible for various functions named in parts 602, 603, 604, and 606 to conform to organizational changes.

EFFECTIVE DATE: This regulation will become effective 30 days after publication in the Federal Register during which either one or both houses of Congress are in session. We will publish a notice of the effective date in the Federal Register.

FOR FURTHER INFORMATION CONTACT: Mark L. Johansen, Senior Policy Analyst, Office of Regulatory Policy, Farm Credit Administration, McLean, VA 22102-5090, (703) 883-4479, TTY (703) 883-4434; or

Jane Virga, Senior Counsel, Legal Counsel Division, Office of General Counsel, Farm Credit Administration, McLean, Virginia 22102-5090, (703) 883-4020, TTY (703) 883-4020.

SUPPLEMENTARY INFORMATION: We are amending our regulations to reflect changes to the FCA's organization and identification of those FCA employees responsible for various functions.

We revise the regulations by:

(1) Deleting a Chief Operating Officer from the description of the organization;

(2) Changing the name of the Office of Policy Development and Risk Control to the Office of Regulatory Policy;

(3) Changing the name of the Office of Resources Management to the Office of Management Services;

(4) Including the Secretary to the Board in FCA's organizational structure; and

(5) Providing the addresses of FCA field offices. We also updated the statutory citation for the Farm Credit Act.

These amendments involve matters of Agency organization and other minor technical changes. Therefore, pursuant to the Administrative Procedures Act, 5 U.S.C. 553(b), notice and public comment are not required and/or are unnecessary and contrary to the public interest.

List of Subjects

12 CFR Part 600

Organization and functions (Government agencies).

12 CFR Part 602

Courts, Freedom of information, Government employees.

12 CFR Part 603

Privacy.

12 CFR Part 604

Sunshine Act.

12 CFR Part 606

Administrative practice and procedure, Civil rights, Equal employment opportunity, Federal buildings and facilities, Individuals with disabilities.

As stated in the preamble, parts 600, 602, 603, 604, and 606 of chapter VI, title 12 of the Code of Federal Regulations are amended as follows:

PART 600—ORGANIZATION AND FUNCTIONS

1. The authority citation for part 600 continues to read as follows:

Authority: Secs. 5.7, 5.8, 5.9, 5.10, 5.11, 5.17, 8.11 of the Farm Credit Act (12 U.S.C. 2241, 2242, 2243, 2244, 2245, 2252, 2279aa-11).

2. Revise subpart A, consisting of §§ 600.1 to 600.4 to read as follows:

Subpart A—Farm Credit Administration

Sec.
600.1 The Farm Credit Act.
600.2 Farm Credit Administration.
600.3 Farm Credit Administration Board.
600.4 Organization of the Farm Credit Administration.

§ 600.1 The Farm Credit Act.

The Farm Credit Act of 1971, Public Law 92-181 recodified and replaced the prior laws under which the Farm Credit Administration (FCA) and the institutions of the Farm Credit System (System or FCS) were organized and operated. The prior laws, which were repealed and superseded by the Act, are identified in section 5.40(a) of the Act. Subsequent amendments to the Act and enactment dates are as follows: Public Law 94-184, December 31, 1975; Public Law 95-443, October 10, 1978; Public Law 96-592, December 24, 1980; Public Law 99-190, December 19, 1985; Public Law 99-198, December 23, 1985; Public Law 99-205, December 23, 1985; Public Law 99-509, October 21, 1986; Public Law 100-233, January 6, 1988; Public Law 100-399, August 17, 1988; Public Law 100-460, October 1, 1988; Public Law 101-73, August 9, 1989; Public Law 101-220, December 12, 1989; Public Law 101-624, November 28, 1990; Public Law 102-237, December 13, 1991; Public Law 102-552, October 28, 1992; Public Law 103-376, October 19, 1994; Public Law 104-105, February 10, 1996; Public Law 104-316, October 19, 1996; Public Law 107-171, May 13, 2002. The law is codified at 12 U.S.C. 2000, et seq.

§ 600.2 Farm Credit Administration.

(a) Background. The Farm Credit Administration is an independent, non-appropriated fund agency in the executive branch of the Federal Government. The FCA Board and employees carry out the FCA's functions, powers, and duties.

(b) Locations. FCA's headquarters address is 1501 Farm Credit Drive, McLean, Virginia 22102-5090. The FCA has the following field offices:

1501 Farm Credit Drive, McLean, VA 22102-5090.

2051 Killebrew Drive, Suite 610, Bloomington, Minnesota 55425-1899.

511 East Carpenter Freeway, Suite 650, Irving, TX 75062-3930.

3131 South Vaughn Way, Suite 250, Aurora, CO 80014-3507.

2180 Harvard Street, Suite 300, Sacramento, California 95815-3323.

§ 600.3 Farm Credit Administration Board.

(a) FCA Board. The President appoints the three full-time Board members with the advice and consent of the Senate. The Board manages, administers, and establishes policies for FCA. The Board promulgates the rules and regulations implementing the Farm Credit Act of 1971, as amended, and provides for the examination of Farm Credit System institutions.

(b) Chairman of the FCA Board. The Chairman of the Board is FCA's Chief Executive Officer. The Chairman directs the implementation of the policies and regulations adopted by the Board and, after consulting the Board, the execution of the administrative functions and duties of FCA. In carrying out the Board's policies, the Chairman acts as the spokesperson for the Board and represents the Board and FCA in their official relations within the Federal Government.

§ 600.4 Organization of the Farm Credit Administration.

(a) Offices and functions. The primary offices of the FCA are:

(1) Office of Congressional and Public Affairs. The Office of Congressional and Public Affairs performs Congressional liaison duties and coordinates and disseminates Agency communications.

(2) Office of Examination. The Office of Examination evaluates the safety and soundness of FCS institutions and their compliance with law and regulations and manages FCA's enforcement and supervision functions.

(3) Office of General Counsel. The Office of General Counsel provides legal advice and services to the FCA Chairman, the FCA Board, and Agency staff.

(4) Office of Inspector General. The Office of Inspector General conducts independent audits, inspections, and investigations of Agency programs and operations and reviews proposed legislation and regulations.

(5) Office of Regulatory Policy. The Office of Regulatory Policy develops policies and regulations for the FCA Board's consideration; evaluates regulatory and statutory prior approvals; manages the Agency's chartering activities; and analyzes policy and strategic risks to the System.

(6) Office of Management Services. The Office of Management Services provides financial management services. It administers the Agency's information resources management program; human resources management program; and contracts, procurement, mail services, and payroll.

(7) Office of Secondary Market Oversight. The Office of Secondary Market Oversight regulates and examines the Federal Agricultural Mortgage Corporation for safety and soundness and compliance with law and regulations.

(8) Secretary to the Board. The Secretary to the Board serves as the parliamentarian for the Board and keeps permanent and complete records and minutes of the acts and proceedings of the Board.

(b) Additional Information. You may obtain more information on the FCA's organization by visiting our Web site at http://www.fca.gov. You may also contact the Office of Congressional and Public Affairs:

(1) In writing at FCA, 1501 Farm Credit Drive, McLean, Virginia 22102-5090;

(2) By e-mail at info-line@fca.gov; or

(3) By telephone at (703) 883-4056.

PART 602—RELEASING INFORMATION

3. The authority citation for part 602 continues to read as follows:

Authority: Secs. 5.9, 5.17; 12 U.S.C. 2243, 2252; 5 U.S.C. 301, 552; 52 FR 10012; E.O. 12600; 52 FR 23781, 3 CFR 1987, p. 235.

Subpart B—Availability of Records of the Farm Credit Administration

§ 602.8 [Amended]

4. Amend § 602.8 as follows:

A. By removing the words “Office of Resources Management (ORM)” and adding in their place, the words “Office of Management Services (OMS)” in the second sentence of paragraph (a).

B. By removing the acronym “ORM” and adding in its place, the acronym “OMS” each place it appears in paragraphs (b) and (c).

PART 603—PRIVACY ACT REGULATIONS

5. The authority citation for part 603 continues to read as follows:

Authority: Secs. 5.9, 5.17 of the Farm Credit Act (12 U.S.C. 2243, 2252); 5 U.S.C. app. 3, 5 U.S.C. 552a(j)(2) and (k)(2).

§ 603.340 [Amended]

6. Amend § 603.340 by removing the words “Office of Resources Management” and adding in their place, the words “Office of Management Services” each place they appear in paragraphs (a) and (b).

PART 604—FARM CREDIT ADMINISTRATION BOARD MEETINGS

7. The authority citation for part 604 continues to read as follows:

Authority: Secs. 5.9, 5.17 of the Farm Credit Act; 12 U.S.C. 2243, 2252.

§ 604.435 [Amended]

8. Amend § 604.435 by removing the words “Director, Office of Resources Management” and adding in their place, the words “Secretary to the Board” in paragraph (e).

PART 606—ENFORCEMENT OF NONDISCRIMINATION ON THE BASIS OF HANDICAP IN PROGRAMS OR ACTIVITIES CONDUCTED BY THE FARM CREDIT ADMINISTRATION

9. The authority citation for part 606 continues to read as follows:

Authority: 29 U.S.C. 794.

§ 606.670 [Amended]

10. Amend § 606.670 as follows:

A. By removing the words “Office of Resources Management” and adding in their place, the words “Office of Management Services” in paragraph (c).

B. By removing the words “Equal Employment Opportunity Manager” and adding in their place, the words “Director, Equal Employment Opportunity” in paragraph (i).

Dated: November 9, 2005.
Jeanette C. Brinkley,
Secretary, Farm Credit Administration Board.

[FR Doc. 05-22731 Filed 11-16-05; 8:45 am]

BILLING CODE 6705-01-P